ENVIRONMENTAL PROTECTION AGENCY

[ER-FRL-8987-1]

Environmental Impact Statements; Notice of Availability

Responsible Agency: Office of Federal Activities, General Information (202) 564-1399 or http://www.epa.gov/compliance/nepa/.

Weekly receipt of Environmental Impact Statements

Filed 12/21/2009 Through 12/25/2009

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20090448, Final EIS, FHWA, WA, South Park Bridge Project, Proposes to Rehabilitate or Replace the Historic South Park Ridge over the Duwamish Waterway at 14th/16 Avenue S, U.S. Coast Guard Permit and U.S. Army COE Section 10 and 404 Permits, King County, WA, Wait Period Ends: 02/01/2010, Contact: Peter A. Jilek, P.E. 360-753-9550.

EIS No. 20090449, Final EIS, USFS, MI, Niagara Project, To Address Site-Specific Vegetation and Transportation System Needs in the Project Areas, Hiawatha National Forest, St. Ignace and Sault Ste. Marie Ranger Districts, Mackinac and Chippewa Counties, MI, Wait Period Ends: 02/01/2010, Contact: Martha Sjoren 906-643-7900 Ext. 117.

EIS No. 20090450, Final EIS, FERC, 00, Bison Pipeline Project (Docket No. CP09-161-000), Construction, Operation, and Maintenance of Interstate Natural Gas Pipeline Facilities, Application for Right-of-Way Grant and Temporary Use Permit, NPDES Permit and U.S. Army COE 404 Permit, WY, MT, and ND, Wait Period Ends: 02/01/2010, Contact: Julia Bovey 1-866-208-3372.

Amended Notices

EIS No. 20090446, Final EIS, USFS, NV, Jarbidge Ranger District Rangeland Management Project, Proposed Reauthorizing Grazing on 21 Existing Grazing Allotments, Humboldt Toiyabe National Forest, Elko County, NV, Wait Period Ends: 01/25/2010, Contact: Vernon Keller 775-355-5356 Revision to FR Notice Published 12/24/2009: Correction to State and Comment Due Date.

Dated: December 24, 2009.
Ken Mittelholtz,
Deputy Director, NEPA Compliance Division, Office of Federal Activities.

[FR Doc. E9-31057 Filed 12-30-09; 8:45 am]

BILLING CODE 6560-50-P